DEPARTMENT OF ENERGY

Federal Energy Regulatory Commission

Organization of PJM States, Inc., District of Columbia Public Service Commission, Indiana Utility Regulatory Commission, Kentucky Public Service Commission, Maryland Public Service Commission, New Jersey Board of Public Utilities, North Carolina Utilities Commission, Pennsylvania Public Utility Commission, and the Virginia State Corporation Commission, Petitioners; v. PJM Interconnection, L.L.C., Respondent: Notice of Designation of Commission Staff as Non-Decisional

April 25, 2007.

Effective April 24, 2007, Alan Haymes, of the Federal Energy Regulatory Commission (Commission), was designated as non-decisional staff in the above-captioned docket. As non-decisional staff, Mr. Haymes will not participate in an advisory capacity in deliberations on the issues pending therein. Separated non-decisional and advisory staffs are prohibited from communicating with one another concerning the deliberations set forth above.

Kimberly D. Bose,
Secretary.

[FR Doc. E7-8335 Filed 5-1-07; 8:45 am]

BILLING CODE 6717-01-P